DEPARTMENT OF THE TREASURY

Submission for OMB Review; Comment Request

January 22, 2015.

The Department of the Treasury will submit the following information collection requests to the Office of Management and Budget (OMB) for review and clearance in accordance with the Paperwork Reduction Act of 1995, Public Law 104-13, on or after the date of publication of this notice.

DATES: Comments should be received on or before February 26, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-0216.

Type of Review: Reinstatement without change of a previously approved collection.

Title: International Boycott Report.

Form: 5713.

Abstract: Form 5713 and related Schedules A, B, and C are used by any entity that has operations in a “boycotting” country. If that entity cooperates with or participates in an international boycott it loses a portion of the foreign tax credit, or deferral of FSC and IC-DISC benefits. The IRS uses Form 5713 to determine if any of the above benefits should be lost. The information is also used as the basis for a report to Congress.

Affected Public: Private Sector: Businesses or other for-profits.

Estimated Annual Burden Hours: 69,495.

OMB Number: 1545-1421.

Type of Review: Reinstatement without change of a previously approved collection.

Title: Certain Elections Under the Omnibus Budget Reconciliation Act of 1993 (TD 8688-final).

Abstract: These regulations establish various elections enacted by the Omnibus Budget Reconciliation Act of 1993 (Act). The regulations provide guidance that enable taxpayers to take advantage of various benefits provided by the Act and the Internal Revenue Code.

Affected Public: Private Sector: Businesses or other for-profits.

Estimated Annual Burden Hours: 202,500.

OMB Number: 1545-1590.

Type of Review: Reinstatement without change of a previously approved collection.

Title: REG-251698-96 (TD 8869—Final) Subchapter S Subsidiaries.

Abstract: The IRS will use the information provided by taxpayers to determine whether a corporation should be treated as an S corporation, a C Corporation, or an entity that is disregarded for federal tax purposes. The collection of information covered in the regulation is necessary for a taxpayer to obtain, retain, or terminate S corporation treatment.

Affected Public: Private Sector: Businesses or other for-profits.

Estimated Annual Burden Hours: 10,110.

OMB Number: 1545-1647.

Type of Review: Reinstatement without change of a previously approved collection.

Title: Revenue Procedure 2001-21, Debt Roll-Ups.

Abstract: This revenue procedure provides for an election that will facilitate the consolidation of two or more outstanding debt instruments into a single debt instrument. Under the election, taxpayers can treat certain exchanges of debt instruments as realization events for federal income tax purposes even though the exchanges do not result in significant modifications under section 1.1001-33 of the Income Tax Regulations.

Affected Public: Private Sector: Businesses and other for-profits.

Estimated Annual Burden Hours: 75.

Dawn D. Wolfgang,
Treasury PRA Clearance Officer.

[FR Doc. 2015-01389 Filed 1-26-15; 8:45 am]

BILLING CODE 4830-01-P